DEPARTMENT OF TRANSPORTATION

Federal Highway Administration

Notice of Final Federal Agency Actions on the Tappan Zee Hudson River Crossing Project in New York

AGENCY: Federal Highway Administration (FHWA), DOT.

ACTION: Notice of Limitation on Claims for Judicial Review of Actions by the U.S. Army Corps of Engineers (USACE) and U.S. Coast Guard (USCG).

SUMMARY: This notice announces actions taken by the USACE and USCG that are final within the meaning of 23 U.S.C. 139(l)(1). The actions relate to the Tappan Zee Hudson River Crossing (New NY Bridge) Project located in Rockland and Westchester Counties, New York. Those actions grant permits and approvals for the project.

DATES: By this notice, the FHWA is advising the public of final agency actions subject to 23 U.S.C. 139(l)(1). A claim seeking judicial review of the Federal agency actions on the highway project will be barred unless the claim is filed on or before October 7, 2013. If this date falls on a Saturday, Sunday, or legal holiday, parties are advised to file their claim no later than the business day preceding this date. If the Federal law that authorizes judicial review of a claim provides a time period of less than 150 days for filing such claim, then that shorter time period still applies.

FOR FURTHER INFORMATION CONTACT: Jonathan D. McDade, Division Administrator, Federal Highway Administration, Leo W. O'Brien Federal Building, Albany, New York 12207, Telephone (518) 431-4127; or Peter Sanderson, Project Director, New York State Thruway Authority, 555 White Plains Road, Tarrytown New York, 10591, Telephone (914) 524-5440.

SUPPLEMENTARY INFORMATION: On October 31, 2012, the FHWA published a “Notice of Final Federal Agency Actions” on the Tappan Zee Hudson River Crossing (New NY Bridge) Project in New York, in the Federal Register at FR Doc. 2012-26799. Tappan Zee Hudson River Crossing (New NY Bridge) Project is located on the Hudson River between the Village of South Nyack in Rockland County on the west and the Village of Tarrytown in Westchester County on the east. The bridge carries Interstate 87 (New York State Thruway) and Interstate 287. The Tappan Zee Hudson River (New NY Bridge) Project involves the replacement of the existing bridge with two new structures (one each for eastbound and westbound traffic), to the north of its existing location. Notice is hereby given that subsequent to the earlier FHWA notice, the USACE and USCG have taken final agency actions by issuing permits and approvals for the Tappan Zee Hudson River Crossing (New NY Bridge) Project in the State of New York. The actions by the USACE and the USCG, and the laws under which such actions were taken, are described in the permits and approvals received by each respective agency. The USACE issued their permit on April 25, 2013 (NAN-2012-00090), and the USCG issued their permit on April 13, 2013 (3-13-1). The documents are available by contacting the FHWA, the NYSDOT, or the NYSTA at the addresses provided above. The permits can be viewed and downloaded from the project Web site at www.newnybridge.com.

This notice applies to USACE and USCG agency decisions as of the issuance date of this notice and all laws under which such actions were taken, including but not limited to:

1. General: National Environmental Policy Act (NEPA) [42 U.S.C. 4321-4351];

2. Bridges: General Bridge Act of 1946, 33 U.S.C. 525-533.

3. Air: Clean Air Act Section 176 (c), 42 U.S.C. 7506(c).

4. Wildlife: Endangered Species Act [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Wetlands and Water Resources: Clean Water Act, 33 U.S.C. 1251-1377 (Section 319, 401, 404); Rivers and Harbors Act of 1899, 33 U.S.C. 401-406; Coastal Zone Management Act, 16 U.S.C. 1451-1465; Land and Water Conservation Fund (LWCF), 16 U.S.C. 4601-4604; Safe Drinking Water Act (SDWA), 42 U.S.C. 300(f)-300(j)(6); 33 U.S.C. 401-406; Wild and Scenic Rivers Act, 16 U.S.C. 1271-1287.

7. Executive Orders: E.O. 11990 Protection of Wetlands; E.O. 11988 Floodplain Management; 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: May 2, 2013.
Jonathan D. McDade,
Division Administrator, Albany, NY.

[FR Doc. 2013-11138 Filed 5-9-13; 8:45 am]

BILLING CODE 4910-RY-P